DEPARTMENT OF LABOR

Employment and Training Administration

[TA-W-39,557]

D.V. & P, Inc. New York, NY; Notice of Termination of Investigation

Pursuant to section 221 of the Trade Act of 1974, an investigation was initiated on July 2, 2001, in response to a petition filed by a company official on behalf of workers at D.V. & P, Inc., New York, New York.

The petitioning worker group is the subject of an ongoing investigation for which a determination has not yet been issued (TA-W-39,371). Consequently, further investigation in this case would serve no purpose, and the investigation has been terminated.

Signed in Washington, DC this 13th day of July, 2001.
Linda G. Poole,
Certifying Officer, Division of Trade Adjustment Assistance.

[FR Doc. 01-18630 Filed 7-25-01; 8:45 am]

BILLING CODE 4510-30-M